DEPARTMENT OF VETERANS AFFAIRS

[OMB Control No. 2900-0418]

Agency Information Collection Activity: Veterans Affairs Acquisition Regulation (VAAR) 809.507-1 and VAAR Provision 852.209-70

AGENCY: Procurement Policy and Warrant Management Service, Office of Procurement Policy, Systems and Oversight, Office of Acquisition and Logistics (OAL), Department of Veterans Affairs.

ACTION: Notice.

SUMMARY: Office of Acquisition and Logistics, Department of Veterans Affairs (VA), is announcing an opportunity for public comment on the proposed collection of certain information by the agency. Under the Paperwork Reduction Act (PRA) of 1995, Federal agencies are required to publish notice in the Federal Register concerning each proposed collection of information, including each proposed extension of a currently approved collection, and allow 60 days for public comment in response to the notice.

DATES: Written comments and recommendations on the proposed collection of information should be received on or before November 13, 2023.

ADDRESSES: Submit written comments on the collection of information through Federal Docket Management System (FDMS) at www.Regulations.gov or to Forrest R. Browne, Senior Procurement Analyst; Procurement Policy Service (PPS; 003A2A), Department of Veterans Affairs, 810 Vermont Avenue NW, Washington, DC 20420 or email to Forrest.Browne@va.gov. Please refer to “OMB Control No. 2900-0418” in any correspondence. During the comment period, comments may be viewed online through FDMS.

FOR FURTHER INFORMATION CONTACT: Maribel Aponte, Office of Enterprise and Integration, Data Governance Analytics (008), 810 Vermont Ave. NW, Washington, DC 20006, (202) 266-4688 or email maribel.aponte@va.gov. Please refer to “OMB Control No. 2900-0418” in any correspondence.

SUPPLEMENTARY INFORMATION: Under the PRA of 1995, Federal agencies must obtain approval from the Office of Management and Budget (OMB) for each collection of information they conduct or sponsor. This request for comment is being made pursuant to section 3506(c)(2)(A) of the PRA.

With respect to the following collection of information, OAL invites comments on: (1) whether the proposed collection of information is necessary for the proper performance of OAL's functions, including whether the information will have practical utility; (2) the accuracy of OAL's estimate of the burden of the proposed collection of information; (3) ways to enhance the quality, utility, and clarity of the information to be collected; and (4) ways to minimize the burden of the collection of information on respondents, including through the use of automated collection techniques or the use of other forms of information technology.

Authority: Public Law 104-13; 44 U.S.C. 3501-3521.

Title: Veterans Affairs Acquisition Regulation (VAAR) 809.507-1 and VAAR Provision 852.209-70.

OMB Control Number: 2900-0418.

Type of Review: Extension of a currently approved collection.

Abstract: Performance of VA mission requires the use of contractors. VAAR provision 852.209-70, Organizational Conflicts of Interest is to implement section 8141 of the 1989 Department of Defense Appropriation Act, Public Law 100-463, 102 Stat. 2270-47 (1988). VAAR 809.507-1, Solicitation provisions, and VAAR provision 852.209-70, Organizational Conflicts of Interest, requires offerors on solicitations for management support and consulting services to advise, as part of the firm's offer, whether or not award of the contract to the firm might involve a conflict of interest or potential conflict of interest, and, if so, to disclose all relevant facts regarding the conflict or potential conflict. The information is used by the contracting officer to determine whether or not to award a contract to the firm or, if a contract is to be awarded despite a potential conflict, whether or not additional contract terms and conditions are necessary to mitigate the conflict.

Affected Public: Business or other for-profit.

Estimated Annual Burden: 102 hours.

Estimated Average Burden per Respondent: 60 minutes.

Frequency of Response: 1 per each solicitation.

Estimated Number of Respondents: 102.

By direction of the Secretary.
Maribel Aponte,
VA PRA Clearance Officer, Office of Enterprise and Integration/Data Governance Analytics, Department of Veterans Affairs.

[FR Doc. 2023-19529 Filed 9-8-23; 8:45 am]

BILLING CODE 8320-01-P